ENVIRONMENTAL PROTECTION AGENCY

40 CFR Part 1051

[AMS-FRL-7922-5]

RIN 2060-AM35

Test Procedures for Testing Highway and Nonroad Engines and Omnibus Technical Amendments

Correction

In rule document 05-11534 beginning on page 40420 in the issue of Wednesday, July 13, 2005, make the following correction:

§1051.720 [Corrected]

On page 40505, in the third column, in §1051.720 (a)(2), in the eighth line, “(kW) 30 ÷ km/hr” should read “(kW) ÷ 30 km/hr”.

[FR Doc. C5-11534 Filed 6-15-06; 8:45 am]

BILLING CODE 1505-01-D